DEPARTMENT OF HEALTH AND HUMAN SERVICES

Health Resources and Services Administration

[OMB No. 0915-0314]

Agency Information Collection Activities: Submission to OMB for Review and Approval; Public Comment Request; Information Collection Request Title: Nurse Faculty Loan Program, Annual Performance Report Financial Data Form; Revision

AGENCY: Health Resources and Services Administration (HRSA), Department of Health and Human Services (HHS).

ACTION: Notice.

SUMMARY: In compliance with the Paperwork Reduction Act of 1995, HRSA has submitted an Information Collection Request (ICR) to the Office of Management and Budget (OMB) for review and approval. Comments submitted during the first public review of this ICR will be provided to OMB. OMB will accept further comments from the public during the review and approval period.

DATES: Comments on this ICR should be received no later than May 25, 2017.

ADDRESSES: Submit your comments, including the ICR Title, to the desk officer for HRSA, either by email to OIRA_submission@omb.eop.gov or by fax to 202-395-5806.

FOR FURTHER INFORMATION CONTACT: To request a copy of the clearance requests submitted to OMB for review, email the HRSA Information Collection Clearance Officer at paperwork@hrsa.gov or call (301) 443-1984.

SUPPLEMENTARY INFORMATION: When submitting comments or requesting information, please include the information request collection title for reference, in compliance with Section 3506(c)(2)(A) of the Paperwork Reduction Act of 1995.

Information Collection Request Title: Nurse Faculty Loan Program (NFLP), Annual Performance Report Financial Data Form, OMB No. 0915-0314—Revision.

Abstract: This clearance request is for approval of a revision to the Nurse Faculty Loan Program, Annual Performance Report (NFLP-APR) Financial Data Form. The form was previously titled as the Nurse Faculty Loan Program, Annual Operating Report (NFLP-AOR).

Section 846A of the Public Health Service Act provides the Secretary of HHS with the authority to enter into an agreement with schools of nursing for the establishment and operation of a student loan fund to increase the number of qualified nurse faculty. Under the agreement, HRSA makes an award to a participating school for the NFLP loan fund, which must be maintained in a distinct account. Each school of nursing then makes loans from the NFLP account to students enrolled full-time or, at the discretion of the Secretary, part-time, in a master's or doctoral nursing education program that prepares the students to become qualified nursing faculty. Following graduation from the NFLP lending school, loan recipients may receive up to 85 percent NFLP loan cancellation over a consecutive 4-year period in exchange for service as full-time faculty at a school of nursing. The NFLP lending school collects the portion of the loan that is not cancelled and any loans that go into repayment due to default and deposits these monies into the NFLP loan fund to make additional NFLP loans.

Need and Proposed Use of the Information: The NFLP-APR Financial Data Form collects financial data online through HRSA's Electronic Handbooks to capture the NFLP loan fund account activity related to financial receivables, disbursements, and borrower account data regarding employment status, loan cancellation, loan repayment, and collections. Participating schools provide HRSA with current and cumulative information on: (1) NFLP loan funds received, (2) number and amount of NFLP loans made, (3) number and amount of loans cancelled, (4) number and amount of loans in repayment, (5) loan default rate percent, (6) number of NFLP graduates employed as nurse faculty, and (7) other related loan fund costs and activities. Participating schools must keep records of all NFLP loan fund transactions.

The revised NFLP-APR Financial Data Form no longer includes nursing student demographic data, which is collected under another form (OMB approval number 0915-0061). As a result, the annual burden is estimated to decrease by 440 hours. The information requested from participating schools in the revised NFLP-APR Financial Data Form is not available from any other source.

In accordance with statute and program guidelines, the NFLP-APR Financial Data Form is used to monitor grantee performance by collecting information related to the NFLP loan fund operations and financial activities for the July 1 through June 30 academic year. Participating schools must submit the NFLP-APR Financial Data Form annually.

Likely Respondents: Participating NFLP schools are required to adhere to reporting requirements.

Burden Statement: Burden in this context means the time expended by persons to generate, maintain, retain, disclose, or provide the information requested. This burden includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Form name | Number of respondents | Number of responses per respondent | Total responses | Average burden per response (in hours) | Total burden hours
NFLP—Annual Performance Report Financial Data Form | 260 | 1 | 260 | 6 | 1,560
Total | 260 |  | 260 |  | 1,560

Jason E. Bennett,
Director, Division of the Executive Secretariat.

[FR Doc. 2017-08297 Filed 4-24-17; 8:45 am]

BILLING CODE 4165-15-P